DEPARTMENT OF COMMERCE

National Oceanic and Atmospheric Administration

RIN 0648-XD604

Magnuson-Stevens Act Provisions; General Provisions for Domestic Fisheries; Paralytic Shellfish Poisoning Closed Areas Expiring

AGENCY: National Marine Fisheries Service (NMFS), National Oceanic and Atmospheric Administration (NOAA), Commerce.

ACTION: Notice; reopening of paralytic shellfish poisoning closed areas.

SUMMARY: Based on request from the U.S. Food and Drug Administration, NMFS is not going to renew the paralytic shellfish poisoning closed areas referred to as the Northern and Southern Temporary Paralytic Shellfish Poisoning Closed Areas for another year. The areas have not been subject to a toxic algal bloom for several years, and recent testing of gastropods and whole/roe-on scallops has demonstrated toxin levels well below those known to cause human illness.

DATES: The Northern and Southern Temporary Paralytic Shellfish Poisoning Closures will expire on December 31, 2014.

FOR FURTHER INFORMATION CONTACT: Jason Berthiaume, Fishery Management Specialist, (978) 281-9177.

SUPPLEMENTARY INFORMATION:

Background

On June 10, 2005, the U.S. Food and Drug Administration (FDA) requested that NMFS close an area of Federal waters off the coasts of New Hampshire and Massachusetts (50 CFR 648.14(a)(10)(iii) and (iv)) for bivalve harvesting due to the presence of toxins that cause Paralytic Shellfish Poisoning (PSP). These toxins can accumulate in filter-feeding shellfish, and consumption of contaminated shellfish can cause illness or death.

These closures were first implemented in 2005 (70 FR 35047) and were subsequently modified a number of times from 2005-2008, with the remaining closure subsequently extended from 2008 until 2013. Beginning in 2014, the closures also included a prohibition on the harvest of gastropods (78 FR 78783). Also in 2014, the Northern closure was lifted for bivalve harvesting with the exception of whole/roe on scallops (79 FR 59150), leaving the area closed to gastropod and whole/roe-on scallop harvesting through December 31, 2014, unless otherwise continued.

Recently, NMFS, the FDA, the Massachusetts Division of Marine Fisheries (DMF) and the fishing industry investigated whether the closures are still warranted. The fishing industry collected gastropod and scallop samples from the areas during the summer of 2014. The FDA conducted laboratory testing of the samples collected, which demonstrated toxin levels well below those known to cause human illness. As a result, on October 8, 2014, the FDA sent NMFS a letter requesting that we not renew the Northern and Southern Temporary PSP Closures for 2015. NMFS has been renewing these closures annually under emergency authority at the request of the FDA. The current closures are set to expire on December 31, 2014, and because the FDA has requested we not renew the closures, they will expire at the end of December, resulting in the areas being open beginning January 1, 2015.

This notice is to inform the public that the areas referred to as the Northern and Temporary PSP Closed Areas will be reopened beginning January 1, 2015 for gastropod and whole/roe-on scallop harvesting. This includes the fisheries for whelk, conch, snails and whole or roe-on scallop harvesting. Scallop harvesting of the abductor muscle is already permitted in the area, and is not affected by this reopening. Given that the Northern closure was recently lifted for other bivalves, this will remove these closures in their entirety.

The FDA has an agreement with the Commonwealth of Massachusetts to conduct PSP monitoring of bivalves from the area in accordance with currently accepted PSP testing procedures. The bivalve testing will serve as an indicator for all molluscan shellfish and gastropods. DMF is testing the reopened waters, and if the results yield samples that exceed the threshold for public safety, DMF will inform us to that effect, and we would work with the FDA to reinstate the closure, as necessary.

The areas defined at 50 CFR 648.81(h)(1)(i), (iv), and (vi) referred to as the Western Gulf of Maine Habitat Closure Area, Closed Area I-North Habitat Closure Area, and Nantucket Lightship Habitat Closed Area respectively, overlap with the area that would be reopened. These overlapping closures areas remain closed to bottom tending mobile gear including scallop dredge gear, otter trawls, hydraulic clam dredge gear and any other bottom tending mobile gear types.

BILLING CODE 3510-22-P

BILLING CODE 3510-22-C

This notification does not impose any legal obligations, requirements, or expectation.

Authority: 16 U.S.C. 1801 et seq.

Dated: December 4, 2014.
Samuel D. Rauch III,
Deputy Assistant Administrator for Regulatory Programs, National Marine Fisheries Service.

[FR Doc. 2014-29122 Filed 12-10-14; 8:45 am]

BILLING CODE 3510-22-P